DEPARTMENT OF TRANSPORTATION

National Highway Traffic Safety Administration

Reports, Forms and Record Keeping Requirements; Agency Information Collection Activity Under OMB Review

AGENCY: National Highway Traffic Safety Administration, DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on June 16, 2004, (69 FR 33694). No comments were received.

DATES: Comments must be submitted on or before December 8, 2004.

FOR FURTHER INFORMATION CONTACT: John Lee, the National Highway Traffic Safety Administration, Office of Rulemaking (NVS-112), (202) 366-4924, 400 Seventh Street, SW., Room 5320, Washington, DC 20590.

SUPPLEMENTARY INFORMATION:

National Highway Traffic Safety Administration

Title: 49 CFR 571.205, Glazing Materials.

OMB Number: 2127-0038.

Type of Request: Extension of a currently approved collection.

Abstract: In order to ensure that glazing and motor vehicle manufacturers are complying with Federal Motor Vehicle Safety Standard No. 205, “Glazing Materials,” NHTSA requires a certification label on each piece of glazing. As part of that certification label, the company must identify itself with a simple two or three digit number assigned by the agency. Failure to clearly identify the manufacturer would make the certification label, and therefore the safety compliance, unenforceable.

Affected Public: New prime glazing manufacturers (A prime glazing manufacturer is a manufacturer that fabricates, laminates, or tempers glazing materials).

Estimated Total Annual Burden: 10.5 hours.

ADDRESSES: Send comments, within 30 days, to the Office of Information and Regulatory Affairs, Office of Management and Budget, 725 7th Street, NW., Washington, DC 20503, Attention: NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A Comment to OMB is most effective if OMB receives it within 30-days of publication.

Issued in Washington, DC, on November 3, 2004.
Stephen R. Kratzke,
Associate Administrator for Rulemaking.

[FR Doc. 04-24854 Filed 11-5-04; 8:45 am]

BILLING CODE 4910-59-P